DEPARTMENT OF STATE

[Public Notice: 12910]

Notice of Department of State Sanctions Actions

ACTION: Notice.

SUMMARY: The U.S. Department of State, in consultation with the U.S. Department of the Treasury and with other departments, as appropriate, has removed from the Department of the Treasury's List of Specially Designated Nationals and Blocked Persons (SDN List) administered by the Office of Foreign Asset Control (OFAC) the names of persons whose property and interests in property had been blocked pursuant to West Bank sanctions authorities.

DATES: This action was issued on January 20, 2025. See SUPPLEMENTARY INFORMATION section for applicable dates.

FOR FURTHER INFORMATION CONTACT: Aaron P. Forsberg, Director, Office of Economic Sanctions Policy and Implementation, Bureau of Economic, Energy, and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/west-bank-related-sanctions.

Notice of Department of State Actions

On October 1, 2024, the Department of State, in consultation with other departments, as appropriate, determined that the property and interests in property subject to U.S. jurisdiction of the following persons are blocked under the relevant sanctions authority listed below.

BILLING CODE 4710-07-P

Hugo Y. Yon,
Principal Deputy Assistant Secretary, Bureau of Economic, Energy, and Business Affairs, Department of State.

[FR Doc. 2026-01590 Filed 1-26-26; 8:45 am]

BILLING CODE 4710-07-C